DEPARTMENT OF LABOR

Employee Benefits Security Administration

137th Meeting of the Advisory Council on Employee Welfare and Pension Benefit Plans; Notice of Meeting

Pursuant to the authority contained in Section 512 of the Employee Retirement Income Security Act of 1974 (ERISA), 29 U.S.C. 1142, the 137th open meeting of the full Advisory Council on Employee Welfare and Pension Benefit Plans will be held on May 11, 2007.

The session will take place in Room S-2508, U.S. Department of Labor, 200 Constitution Avenue, NW., Washington, DC 20210. The purpose of the open meeting, which will run from 1:45 p.m. to approximately 4:30 p.m., is to swear in the new members, introduce the Council Chair and Vice Chair, receive an update from the Acting Assistant Secretary of Labor for the Employee Benefits Security Administration, and determine the topics to be addressed by the Council in 2007.

Organizations or members of the public wishing to submit a written statement may do so by submitting 25 copies on or before May 4, 2007 to Larry Good, Executive Secretary, ERISA Advisory Council, U.S. Department of Labor, Suite N-5623, 200 Constitution Avenue, NW., Washington, DC 20210. Statements received on or before May 4, 2007 will be included in the record of the meeting. Individuals or representatives of organizations wishing to address the Advisory Council should forward their requests to the Executive Secretary or telephone (202) 693-8668. Oral presentations will be limited to ten minutes, time permitting, but an extended statement may be submitted for the record. Individuals with disabilities who need special accommodations should contact Larry Good by May 4 at the address indicated.

Further, in accordance with section 512(a)(1) of the Employee Retirement Income Security Act of 1974 (ERISA) and the provisions of the Federal Advisory Committee Act and its implementing regulations issued by the General Services Administration (GSA), the charter for the Advisory Council on Employee Welfare and Pension Benefit Plans has been renewed.

The Advisory Council will report to the Secretary of Labor. It will function solely as an advisory body and will operate in accordance with its charter and with the provisions of the Federal Advisory Committee Act. For further information, contact Larry I. Good, Executive Secretary, Advisory Council on Employee Welfare and Pension Benefit Plans, U.S. Department of Labor, 200 Constitution Avenue, NW., Washington, DC 20210, telephone (202) 693-8668.

Signed at Washington, DC this 20th day of April, 2007.
Bradford Campbell,
Acting Assistant Secretary, Employee Benefits Security Administration.

[FR Doc. E7-7957 Filed 4-25-07; 8:45 am]

BILLING CODE 4510-29-P